DEPARTMENT OF TRANSPORTATION

National Highway Traffic Safety Administration

[Docket No. NHTSA-2018-0054; Notice 1]

General Motors, LLC, Receipt of Petition for Decision of Inconsequential Noncompliance

AGENCY: National Highway Traffic Safety Administration (NHTSA), Department of Transportation (DOT).

ACTION: Receipt of petition.

SUMMARY: General Motors, LLC (GM), has determined that certain model year (MY) 2018 Buick Regal motor vehicles do not comply with Federal Motor Vehicle Safety Standard (FMVSS) 110, Tire Selection and Rims and Motor Home/Recreation Vehicle Trailer Load Carrying Capacity Information for Motor Vehicles with a GVWR of 4,536 kilograms (10,000 pounds) or Less. GM filed a noncompliance report dated April 4, 2018, and subsequently petitioned NHTSA on April 27, 2018, for a decision that the subject noncompliance is inconsequential as it relates to motor vehicle safety.

DATES: Send comments on or before June 25, 2018.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE, Washington, DC 20590.

• Hand Delivery: Deliver comments by hand to U.S. Department of Transportation, Docket Operations, M-30, West Building Ground Floor, Room W12-140, 1200 New Jersey Avenue SE, Washington, DC 20590. The Docket Section is open on weekdays from 10 a.m. to 5 p.m. except Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: GM has determined that certain MY 2018 Buick Regal motor vehicles do not fully comply with the requirements of paragraph S4.3 of FMVSS No. 110, Tire Selection and Rims and Motor Home/Recreation Vehicle Trailer Load Carrying Capacity Information for Motor Vehicles with a GVWR of 4,536 kilograms (10,000 pounds) or Less (49 CFR 571.110). GM filed a noncompliance report dated April 4, 2018, pursuant to 49 CFR part 573, Defect and Noncompliance Responsibility and Reports, and subsequently petitioned NHTSA on April 27, 2018, pursuant to 49 U.S.C. 30118(d) and 30120(h) and 49 CFR part 556, for an exemption from the notification and remedy requirements of 49 U.S.C. Chapter 301 on the basis that this noncompliance is inconsequential as it relates to motor vehicle safety.

This notice of receipt of GM's petition is published under 49 U.S.C. 30118 and 30120 and does not represent any agency decision or other exercise of judgment concerning the merits of the petition.

II. Vehicles Involved: Approximately 1,029 MY 2018 Buick Regal vehicles manufactured between August 22, 2017 and February 15, 2018, are potentially involved.

III. Noncompliance: GM explains that the noncompliance is that the subject vehicles were equipped with tire placards that incorrectly state the spare tire size and cold tire pressure. Specifically, the tire placards state that the spare tire size is “None” when in fact it should have been “T125/70R17” and omitted the cold tire pressure for the spare tire when it should have read “420 kPa, 60 psi,” as required by paragraph S4.3 of FMVSS No. 110.

IV. Rule Requirements: Paragraph S4.3 of FMVSS 110, includes the requirements relevant to this petition: Each vehicle, except for a trailer or incomplete vehicle, shall show the information specified in paragraph S4.3 (a) through (g), and may show, at the manufacturer's option, the information specified in paragraph S4.3 (h) and (i), on a placard permanently affixed to the vehicle on the driver's side B-pillar. The required information relevant to this petition falls under S4.3 (c) and (d), which are the manufacturer's recommended cold inflation and tire size for all tires, including the spare, respectively.

V. Summary of Petition: GM described the subject noncompliance and stated its belief that the noncompliance is inconsequential as it relates to motor vehicle safety.

In support of its petition, GM submitted the following reasoning:

1. There is no issue with the spare tire itself, it's safe and nondefective. The only issue here is that certain information about the spare tire is not listed on the vehicle placard. But that is inconsequential because that information is provided in other locations.

2. Specifically, the spare tire information is located in at least three places: (1) On the sidewall of the spare tire; (2) in the owner's manual, which the vehicle placard specifically directs the customer to for additional information; and (3) on the Monroney label.

3. There is no issue with the road tires and the information on the vehicle placard for the road tires is correct.

4. In the event of a flat tire, the customer will have a spare tire that is labeled with the proper inflation pressure and has a sufficient load rating for the vehicle. It will be immediately apparent to any customer potentially confused by the “none” language that the vehicle has a spare tire when they lift the liftgate as explained in the owner's manual. In addition, the fact that the vehicle has a spare tire is explained on the Monroney label.

5. The spare-tire size and pressure information is readily available from additional sources (e.g., any automotive dealer or tire replacement facility), and on GM's or the tire retailer's website.

6. Most, if not all, temporary spare tires have the same cold tire pressure, which is 60 psi. The 60 psi pressure is an industry standard and it is set by at least two governing bodies, the U.S. Tire and Rim Association and the European Tire Rim Technical Organization.

7. All other information on the vehicle placard is correct.

8. NHTSA has previously granted similar inconsequential petitions with respect to FMVSS No. 110 noncompliances.

9. GM is not aware of any field or owner complaints associated with this issue. GM is also not aware of any crashes or injuries associated with this condition.

GM's complete petition and all supporting documents are available by logging onto the Federal Docket Management System (FDMS) website at: https://www.regulations.gov and by following the online search instructions to locate the docket number as listed in the title of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that GM no longer controlled at the time it determined that the noncompliance existed. However, any decision on this petition does not relieve vehicle distributors and dealers of the prohibitions on the sale, offer for sale, or introduction or delivery for introduction into interstate commerce of the noncompliant vehicles under their control after GM notified them that the subject noncompliance existed.

Authority: (49 U.S.C. 30118, 30120: delegations of authority at 49 CFR 1.95 and 501.8).

Michael A. Cole,
Acting Director, Office of Vehicle Safety Compliance.

[FR Doc. 2018-11096 Filed 5-23-18; 8:45 am]

BILLING CODE 4910-59-P